INTERNATIONAL TRADE COMMISSION

[Inv. No. 337-TA-503]

In the Matter of Certain Automated Mechanical Transmission Systems for Medium-Duty and Heavy-Duty Trucks and Components Thereof; Notice of Commission Decision Not to Review an Initial Determination Terminating the Investigation as to One Patent and as to Certain Claims of Three Other Patents

AGENCY: U.S. International Trade Commission.

ACTION: Notice.

SUMMARY: Notice is hereby given that the U.S. International Trade Commission has determined not to review the presiding administrative law judge's (“ALJ's”) initial determination (“ID”)(Order No. 20) terminating the above-captioned investigation as to one asserted patent and as to certain claims of three other asserted patents.

FOR FURTHER INFORMATION CONTACT: Wayne Herrington, Esq., Office of the General Counsel, U.S. International Trade Commission, 500 E Street, SW., Washington, DC 20436, telephone (202) 205-3090. Copies of the ALJ's ID and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on January 7, 2004, based on a complaint filed by Eaton Corporation of Cleveland, Ohio. 69 FR 936 (January 7, 2004). The complaint, as supplemented, alleged violations of section 337 of the Tariff Act of 1930 in the importation into the United States, the sale for importation, and the sale within the United States after importation of certain automated mechanical transmissions for medium-duty and heavy-duty trucks, and components thereof, by reason of infringement of claim 15 of U.S. Patent No. 4,899,279 (“the ‘279 patent”); claims 1-20 of U.S. Patent No. 5,335,566 (“the ‘566 patent”); claims 2-4 and 6-16 of U.S. Patent No. 5,272,939 (“the ‘939 patent”); claims 1-13 of U.S. Patent No. 5,624,350 (“the ‘350 patent”); claims 1, 3, 4, 6-9, 11, 13, 14, 16, and 17 of U.S. Patent No. 6,149,545 (“the ‘545 patent”); and claims 1-16 of U. S. Patent No. 6,066,071 (“the ‘071 patent”). The complaint and notice of investigation named three respondents: ZF Meritor LLC, of Maxton, North Carolina; ZF Friedrichshafen AG, of Friedrichshafen, Germany; and ArvinMeritor, Inc., of Troy, Michigan.

On June 4, 2004, pursuant to Commission rule 210.21(a)(1), complainant moved for partial termination of the investigation as to claims 3, 7, and 8 of the ‘279 patent, claims 2, 3, and 5-20 of the ‘566 patent, claims 4, 7, and 12 of the ‘350 patent, claims 4, 8-9, and 14 of the ‘545 patent, and claims 3-4, 6-7, and 12-14 of the ‘071 patent. On June 18, 2004, complainant moved for leave to amend and supplement its motion to include partial termination of the investigation as to the ‘071 patent in its entirety. On June 24, 2004, the ALJ issued the subject ID granting complainant's motion, as amended, except as to claims 3, 7, and 8 of the ‘279 patent, which he found had not been put in issue in the Commission's notice of investigation. He stated that he was making no decision on complainant's statement that it intended to pursue claim 1 of the ‘279 patent, the question of pursuit of that claim not being before him. He also stated that he considered respondents' previous summary determination motion relating to the ‘071 patent to be moot. No petitions for review of the ID were filed.

The authority for the Commission's determination is contained in section 337 of the Tariff Act of 1930, as amended (19 U.S.C. 1337), and in section 210.42 of the Commission's Rules of Practice and Procedure (19 CFR 210.42).

By order of the Commission.
Issued: July 21, 2004.
Marilyn R. Abbott,
Secretary to the Commission.

[FR Doc. 04-16989 Filed 7-26-04; 8:45 am]

BILLING CODE 7020-02-P